DEPARTMENT OF TRANSPORTATION

Surface Transportation Board

[STB Docket No. AB-260 (Sub-No. 2X)]

Rarus Railway Company—Abandonment Exemption—in Deer Lodge County, MT

Rarus Railway Company (Rarus) has filed a notice of exemption under 49 CFR 1152 Subpart F—Exempt Abandonments to abandon its Anaconda/West Valley Line, an approximately 4.7-mile line of railroad, extending between a point at Pennsylvania Avenue west of the West Anaconda Yard in Anaconda, MT, and a point at North Cable Road approximately 4.2 miles west of Anaconda, in Deer Lodge County, MT. The line traverses United States Postal Service Zip Code 59711.

Rarus has certified that: (1) No local traffic has moved over the line for at least 2 years; (2) any overhead traffic on the line can be rerouted over other lines; (3) no formal complaint filed by a user of rail service on the line (or by a state or local government entity acting on behalf of such user) regarding cessation of service over the line either is pending with the Board or with any U.S. District Court or has been decided in favor of complainant within the 2-year period; and (4) the requirements at 49 CFR 1105.7 (environmental report), 49 CFR 1105.8 (historic report),¹ 49 CFR 1105.11 (transmittal letter), 49 CFR 1105.12 (newspaper publication), and 49 CFR 1152.50(d)(1) (notice to governmental agencies) have been met.

¹ The Board's Section of Environmental Analysis (SEA) has approved the request of Rarus to submit a preliminary draft environmental assessment in lieu of the environmental and historic reports required by 49 CFR 1105.7 and 49 CFR 1105.8.

As a condition to this exemption, any employee adversely affected by the abandonment shall be protected under Oregon Short Line R. Co.—Abandonment—Goshen, 360 I.C.C. 91 (1979). To address whether this condition adequately protects affected employees, a petition for partial revocation under 49 U.S.C. 10502(d) must be filed.

Provided no formal expression of intent to file an offer of financial assistance (OFA) has been received, this exemption will be effective on July 22, 2008, unless stayed pending reconsideration.² Petitions to stay that do not involve environmental issues,³ formal expressions of intent to file an OFA under 49 CFR 1152.27(c)(2),⁴ and trail use/rail banking requests under 49 CFR 1152.29 must be filed by June 30, 2008. Petitions to reopen or requests for public use conditions under 49 CFR 1152.28 must be filed by July 10, 2008, with: Surface Transportation Board, 395 E Street, SW., Washington, DC 20423-0001.

² The earliest this transaction may be consummated is July 22, 2008. Rarus confirmed this date by letter filed on June 5, 2008.

³ The Board will grant a stay if an informed decision on environmental issues (whether raised by a party or by SEA in its independent investigation) cannot be made before the exemption's effective date. See Exemption of Out-of-Service Rail Lines, 5 I.C.C.2d 377 (1989). Any request for a stay should be filed as soon as possible so that the Board may take appropriate action before the exemption's effective date.

⁴ Each OFA must be accompanied by the filing fee, which currently is set at $1,300. See 49 CFR 1002.2(f)(25).

A copy of any petition filed with the Board should be sent to Rarus' representative: James E. Howard, One Thompson Square, Suite 201, Charlestown, MA 02129.

If the verified notice contains false or misleading information, the exemption is void ab initio.

Rarus has filed environmental and historic correspondence pursuant to its discussions with SEA regarding submission of a preliminary draft environmental assessment. SEA will issue an environmental assessment (EA) by June 27, 2008. Interested persons may obtain a copy of the EA by writing to SEA (Room 1100, Surface Transportation Board, Washington, DC 20423-0001) or by calling SEA, at (202) 245-0305. [Assistance for the hearing impaired is available through the Federal Information Relay Service (FIRS) at 1-800-877-8339.] Comments on environmental and historic preservation matters must be filed within 15 days after the EA becomes available to the public.

Environmental, historic preservation, public use, or trail use/rail banking conditions will be imposed, where appropriate, in a subsequent decision.

Pursuant to the provisions of 49 CFR 1152.29(e)(2), Rarus shall file a notice of consummation with the Board to signify that it has exercised the authority granted and fully abandoned the line. If consummation has not been effected by Rarus' filing of a notice of consummation by June 20, 2009, and there are no legal or regulatory barriers to consummation, the authority to abandon will automatically expire.

Board decisions and notices are available on our Web site at http://www.stb.dot.gov.

Decided: June 16, 2008.
By the Board, Joseph H. Dettmar, Acting Director, Office of Proceedings.
Anne K. Quinlan,
Acting Secretary.

[FR Doc. E8-13962 Filed 6-19-08; 8:45 am]

BILLING CODE 4915-01-P